DEPARTMENT OF ENERGY

Nonproliferation and National Security University Research Initiative (NNURI)

AGENCY: Idaho Operations Office, Department of Energy.

ACTION: Notice of availability of solicitation.

SUMMARY: The U.S. Department of Energy (DOE) Office of Research and Engineering (NN-20), of the Office of Defense Nuclear Nonproliferation (NN), National Nuclear Security Administration (NNSA), in keeping with its mission to strengthen the Nation's capabilities in the areas of nonproliferation of weapons of mass destruction and national security through the support of science, engineering and mathematics, announces its interest in receiving grant applications from academic researchers, preferably in collaborative partnerships with U.S. Department of Energy Laboratories. The purpose of this program is to expand our national capability to detect illicit nuclear proliferation activities and to attract new talent to national security research and development organizations. The DOE is seeking applications from domestic private and public institutions of higher learning to support innovative research in areas that will contribute to the Department of Energy's Nonproliferation and National Security missions.

DATES: The deadline for receipt of applications is 5 p.m. MDT June 18, 2001. The issuance date of Solicitation No. DE-PS07-01ID14060 will be approximately May 9, 2001.

ADDRESSES: Applications should be submitted through DOE's Industry Interactive Procurement System (IIPS) at http://e-center.doe.gov.

FOR FURTHER INFORMATION CONTACT: Marshall Garr, Contract Specialist, at garrmc@id.doe.gov or telephone (208) 526-1536.

SUPPLEMENTARY INFORMATION: The purpose of this program is to expand our national capability to detect illicit nuclear proliferation activities and to attract new talent to national security research and development organizations. The DOE is seeking applications from domestic private and public institutions of higher learning to support innovative research in areas that will contribute to the Department of Energy's Nonproliferation and National Security missions. Approximately $600,000 in federal funds is expected to be available to fund the first year of selected research efforts. DOE anticipates making 3 grant awards, each with a budget of $200,000 per year and a project performance period of three years. Additional grants may be awarded at a later date if more funding becomes available. There is a limit of one award per institution. Award of a grant under this solicitation does not commit the Government to fund any follow-on research. Successful applicants will be required to submit annual and final reports to DOE. Project performance periods are divided into budget periods. Each budget period is 12 months, beginning on the day of award. Continuation of the award into each new budget period will be based on submission of timely and informative reports; adequate progress based on reports and site visits from DOE representatives; and adequate planning for the new budget period. Planning should be based on the budget period not the fiscal or calendar year. All U.S. institutions of higher learning, whether private or public, may submit applications in response to this solicitation. DOE anticipates that federal funds provided through this solicitation will be used to support research and development (R&D) by faculty and students at institutions of higher learning. Collaboration or a close working relationship with a DOE National Laboratory is strongly encouraged; however, no award dollars can be used to fund DOE Laboratory activities.

The solicitation will be available in full text via the Internet on DOE's Industry Interactive Procurement System (IIPS) at http://e-center.doe.gov. Technical and non-technical questions should be submitted in writing to Marshall Garr by e-mail garrmc@id.doe.gov, or facsimile at 208-526-5548 no later than May 22, 2001.

The statutory authority for this program is the National Defense Authorization Act for Fiscal Year 2000 (Pub. L. 106-65).

Issued in Idaho Falls on May 9, 2001.
R. Jeffrey Hoyles,
Director, Procurement Services Division.

[FR Doc. 01-12331 Filed 5-15-01; 8:45 am]

BILLING CODE 6450-01-U